DEPARTMENT OF HEALTH AND HUMAN SERVICES

National Institutes of Health

Eunice Kennedy Shriver National Institute of Child Health & Human Development; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The [[[ REASON TO CLOSE TEXT IS MISSING ]]] and the discussions could disclose confidential trade secrets or commercial property such as patentable material, and personal information concerning individuals associated with the [[[ REASON TO CLOSE TEXT IS MISSING ]]], the disclosure of which would constitute a clearly unwarranted invasion of personal privacy.

Name of Committee: National Institute of Child Health and Human Development Special Emphasis Panel.

Date: March 3, 2017.

Time: 2:00 p.m. to 6:00 p.m.

Agenda: To review and evaluate grant applications and/or proposals.

Place: Bethesda North Marriott Hotel and Conference Center, Bethesda, MD 20892750.

Contact Person: Minki Chatterji, Scientific Review Administrator, Division of Scientific Review, National Institute of Child Health and Human Development, 6710B Bethesda Drive, Bethesda, MD 20892, 301.806.2515, chatterm@csr.nih.gov.

Name of Committee: National Institute of Child Health and Human Development Special Emphasis Panel; Best Pharmaceutical for Children Act (BPCA) Data Coordinating Center (DCC).

Date: April 11, 2017.

Time: 2:00 p.m. to 6:00 p.m.

Agenda: To review and evaluate contract proposals.

Place: National Institutes of Health, 6710 Rockledge Drive, Bethesda, MD 20892, (Telephone Conference Call).

Contact Person: Sathasiva B. Kandasamy, Ph.D., Scientific Review Administrator, Division of Scientific Review, National Institute of Child Health and Human Development, 6710B Bethesda Drive, Bethesda, MD 20892, (301) 435-6680, skandasa@mail.nih.gov.

Name of Committee: National Institute of Child Health and Human Development Special Emphasis Panel; Center for Public Information on Population Research.

Date: May 5, 2017.

Time: 4:00 p.m. to 5:00 p.m.

Agenda: To review and evaluate grant applications.

Place: Residence Inn Bethesda, 7335 Wisconsin Avenue, Bethesda, MD 20814.

Contact Person: Minki Chatterji, Scientific Review Administrator, Division of Scientific Review National Institute of Child Health And Human Development, 6710B Bethesda Drive, Bethesda, MD 20892, 301.806.2515, chatterm@csr.nih.gov.

(Catalogue of Federal Domestic Assistance Program Nos. 93.864, Population Research; 93.865, Research for Mothers and Children; 93.929, Center for Medical Rehabilitation Research; 93.209, Contraception and Infertility Loan Repayment Program, National Institutes of Health, HHS)

Dated: February 9, 2017.
Michelle Trout,
Program Analyst, Office of Federal Advisory Committee Policy.

[FR Doc. 2017-02961 Filed 2-13-17; 8:45 am]

BILLING CODE 4140-01-P